DEPARTMENT OF COMMERCE

International Trade Administration

[Application No. 90-9A007]

Export Trade Certificate of Review

ACTION: Notice of issuance of an amended Export Trade Certificate of Review to United States Surimi Commission (USSC), Application No. 90-9A007.

SUMMARY: The Secretary of Commerce, through the Office of Trade and Economic Analysis (OTEA), issued an amended Export Trade Certificate of Review to USSC on May 13, 2024.

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing title III are found at 15 CFR part 325. OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Certified Conduct

USSC amended its Certificate as follows:

1. Added the following entities as Members of the Certificate within the meaning of section 325.2(l) of the Regulations (15 CFR 325.2(l)):

• Arctic Fjord II LLC

• Arctic Storm Holding Company LLC

• Coastal Alaska Premier Seafoods, LLC

• F/V Neahkahnie LLC

• Fishery Investments, Ltd.

• Phoenix Processor Limited Partnership

2. Removed the following entities as Members of the Certificate:

• AF International, Inc.

• Aleutian Spray Fisheries, Inc

• Fjord Seafoods LLC

• Fjord Fisheries General Partnership

• NWPI, Inc.

• Starbound LLC

List of Members, as amended:

1. American Seafoods Company LLC, Seattle, WA

2. American Seafoods Japan, Ltd., Seattle, WA

3. AS Europe ApS, Seattle, WA

4. American Seafoods China (Dalian) Ltd., Seattle, WA

5. Arctic Storm, Inc., Seattle, WA

6. Arctic Storm International, Inc., Seattle, WA

7. Arctic Fjord, Inc., Seattle, WA

8. Arctic Fjord II LLC, Seattle, WA

9. F/V Neahkahnie LLC, Seattle, WA

10. Arctic Storm Management Group LLC, Seattle, WA

11. Arctic Storm Holding Company LLC, Seattle, WA

12. Glacier Fish Company LLC, Seattle, WA

13. ASM Export Co., Seattle, WA

14. Coastal Alaska Premier Seafoods, LLC, Anchorage, AK

15. Phoenix Processor Limited Partnership, Seattle, WA

16. Fishery Investments, Ltd., Seattle, WA

The effective date of the amended certificate is February 13, 2024, the date on which USSC's application to amend was deemed submitted.

Dated: May 23, 2024.
Joseph Flynn,
Director, Office of Trade and Economic Analysis, International Trade Administration, U.S. Department of Commerce.

[FR Doc. 2024-11814 Filed 5-29-24; 8:45 am]

BILLING CODE 3510-DR-P